ENVIRONMENTAL PROTECTION AGENCY

40 CFR Part 52

[EPA-R03-OAR-2021-0217; FRL-9290-02-R3]

Approval and Promulgation of Air Quality Implementation Plans; Pennsylvania; Reasonably Available Control Technology Determinations for Case-by-Case Sources Under the 1997 and 2008 8-Hour Ozone National Ambient Air Quality Standards

AGENCY: Environmental Protection Agency (EPA).

ACTION: Final rule.

SUMMARY: The Environmental Protection Agency (EPA) is approving multiple state implementation plan (SIP) revisions submitted by the Commonwealth of Pennsylvania. These revisions were submitted by the Pennsylvania Department of Environmental Protection (PADEP) to establish and require reasonably available control technology (RACT) for 14 major volatile organic compound (VOC) and/or nitrogen oxide (NOX) emitting facilities pursuant to the Commonwealth of Pennsylvania's conditionally approved RACT regulations. In this rule action, EPA is approving source-specific (also referred to as “case-by-case” or CbC) RACT determinations or alternative NOX emissions limits for sources at 14 major NOX and VOC emitting facilities within the Commonwealth submitted by PADEP. These RACT evaluations were submitted to meet RACT requirements for the 1997 and 2008 8-hour ozone national ambient air quality standards (NAAQS). EPA is approving these revisions to the Pennsylvania SIP in accordance with the requirements of the Clean Air Act (CAA) and EPA's implementing regulations.

DATES: This final rule is effective on February 24, 2022.

ADDRESSES: EPA has established a docket for this action under Docket ID Number EPA-EPA-R03-OAR-2021-0217. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Ms. Gwendolyn Supplee, Permits Branch (3AD10), Air & Radiation Division, U.S. Environmental Protection Agency, Region III, 1650 Arch Street, Philadelphia, Pennsylvania 19103. The telephone number is (215) 814-2763. Ms. Supplee can also be reached via electronic mail at supplee.gwendolyn@epa.gov.

SUPPLEMENTARY INFORMATION:

I. Background

On August 2, 2021, EPA published a notice of proposed rulemaking (NPRM). 86 FR 41421. In the NPRM, EPA proposed approval of case-by-case RACT determinations or alternative NOX emissions limits for sources 14 facilities, as EPA found that the RACT controls for these sources met the CAA RACT requirements for the 1997 and 2008 8-hour ozone NAAQS. PADEP submitted the SIP revisions for sources at these facilities on May 7, 2020.

Under certain circumstances, states are required to submit SIP revisions to address RACT requirements for both major sources of NOX and VOC and any source covered by control technique guidelines (CTG) for each ozone NAAQS. Which NOX and VOC sources in Pennsylvania are considered “major,” and are therefore subject to RACT, is dependent on the location of each source within the Commonwealth. Sources located in nonattainment areas would be subject to the “major source” definitions established under the CAA based on the area's current classification(s). In Pennsylvania, sources located in any ozone nonattainment areas outside of moderate or above are subject to source thresholds of 50 tons per year (tpy) because of the Ozone Transport Region (OTR) requirements in CAA section 184(b)(2).

On May 16, 2016, PADEP submitted a SIP revision addressing RACT for both the 1997 and 2008 8-hour ozone NAAQS in Pennsylvania. PADEP's May 16, 2016 SIP revision intended to address certain outstanding non-CTG VOC RACT, VOC CTG RACT, and major source VOC and NOX RACT requirements for both standards. The SIP revision requested approval of Pennsylvania's 25 Pa. Code 129.96-100, Additional RACT Requirements for Major Sources of NOX and VOCs (the “presumptive” RACT II rule). Prior to the adoption of the RACT II rule, Pennsylvania relied on the NOX and VOC control measures in 25 Pa. Code 129.92-95, Stationary Sources of NOX and VOCs (the RACT I rule) to meet RACT for non-CTG major VOC sources and major NOX sources. The requirements of the RACT I rule remain as previously approved in Pennsylvania's SIP and continue to be implemented as RACT.¹ On September 26, 2017, PADEP submitted a letter, dated September 22, 2017, which committed to address various deficiencies identified by EPA in PADEP's May 16, 2016 “presumptive” RACT II rule SIP revision.

¹ The RACT I Rule was approved by EPA into the Pennsylvania SIP on March 23, 1998. 63 FR 13789. Through this rule, certain source-specific RACT I requirements will be superseded by more stringent requirements. See Section II of the preamble to this final rule.

On May 9, 2019, EPA conditionally approved the RACT II rule based on the commitments PADEP made in its September 22, 2017 letter.² 84 FR 20274. In EPA's final conditional approval, EPA noted that PADEP would be required to submit, for EPA's approval, SIP revisions to address any facility-wide or system-wide NOX emissions averaging plans approved under 25 Pa. Code 129.98 and any case-by-case RACT determinations under 25 Pa. Code 129.99. PADEP committed to submitting these additional SIP revisions within 12 months of EPA's final conditional approval (i.e., by May 9, 2020). Through multiple submissions between 2017 and 2020, PADEP has submitted to EPA for approval various SIP submissions to implement its RACT II case-by-case determinations and alternative NOX emissions limits. This rule is based on EPA's review of one of these SIP revisions.

² On August 27, 2020, the Third Circuit Court of Appeals issued a decision vacating EPA's approval of three provisions of Pennsylvania's presumptive RACT II rule applicable to certain coal-fired power plants. Sierra Club v. EPA, 972 F.3d 290 (3d Cir. 2020). None of the sources in this final rule are subject to the presumptive RACT II provisions at issue in that Sierra Club decision.

II. Summary of SIP Revision and EPA Analysis

A. Summary of SIP Revision

To satisfy a requirement from EPA's May 9, 2019 conditional approval, PADEP submitted to EPA SIP revisions addressing alternative NOX emissions limits and/or case-by-case RACT requirements for major sources in Pennsylvania subject to 25 Pa. Code 129.98 or 129.99. Among the Pennsylvania RACT SIP revisions submitted by PADEP were case-by-case RACT determinations and alternative NOX emissions limits for the existing emissions units at each of the major sources of NOX and/or VOC that required a source-specific RACT determination or alternative NOX emissions limits for major sources seeking such limits.

In PADEP's case-by-case RACT determinations, an evaluation was completed to determine if previously SIP-approved, case-by-case RACT emissions limits or operational controls (herein referred to as RACT I and contained in RACT I permits) were more stringent than the new RACT II presumptive or case-by-case requirements. If more stringent, the RACT I requirements will continue to apply to the applicable source. If the new case-by-case RACT II requirements are more stringent than the RACT I requirements, then the RACT II requirements will supersede the prior RACT I requirements.³

³ While the prior SIP-approved RACT I permit will remain part of the SIP, this RACT II rule will incorporate by reference the RACT II requirements through the RACT II permit and clarify the ongoing applicability of specific conditions in the RACT I permit.

In PADEP's RACT determinations involving NOX averaging, an evaluation was completed to determine that the aggregate NOX emissions emitted by the air contamination sources included in the facility-wide or system-wide NOX emissions averaging plan using a 30-day rolling average are not greater than the NOX emissions that would be emitted by the group of included sources if each source complied with the applicable presumptive limitation in 25 Pa. Code 129.97 on a source-specific basis.

Here, EPA is approving SIP revisions pertaining to case-by-case RACT requirements and/or alternative NOX emissions limits for sources at 14 major NOX and/or VOC emitting facilities in Pennsylvania, as summarized in Table 1 in this document.

Table 1—Fourteen Major NOX and/or VOC Sources in Pennsylvania Subject to Case-by-Case RACT II Determinations Under the 1997 and 2008 8-Hour Ozone NAAQS
Major source (county) | 1-Hour ozone RACT source? (RACT I) | Major source pollutant (NOX and/or VOC) | RACT II permit (effective date)
Dart Container Corporation of Pennsylvania—East Lampeter (Lancaster) | Yes | VOC | 36-05117 (10/15/2020)
Dart Container Corporation of Pennsylvania—Leola (Lancaster) | Yes | NOX and VOC | 36-05015 (03/30/2020)
Latrobe Specialty Metals—A Carpenter Co (Westmoreland) | Yes | NOX | 65-00016 (02/26/2020)
ATI Flat Rolled Products Holdings, LLC (Westmoreland) | Yes | NOX | 65-00137
CONSOL Pennsylvania Coal Company, LLC (Greene) | Yes | VOC | 30-00072L
IPSCO Koppel Tubular Corporation—IPSCO Ambridge (Beaver) | No | NOX | 04-00227
IPSCO Koppel Tubular Corporation—IPSCO Koppel (Beaver) | Yes | NOX and VOC | 04-00059 (03/16/2020)
MarkWest Liberty Bluestone Plant (Butler) | No | VOC | 10-00368
York Group Inc.—Black Bridge Rd (York) | Yes | VOC | 67-05014C
Omnova Solutions Inc—Jeannette Plant (Westmoreland) | Yes | VOC | 65-00207 (02/06/2020)
Jessop Steel LLC—Washington Plant (Washington) | Yes | NOX | 63-00027 (03/11/2020)
Kawneer Commercial Windows LLC (Butler) | Yes | VOC | 10-00267 (03/04/2020)
Tennessee Gas Pipeline Co., LLC, Marienville STA 307 (Forest) | Yes | NOX and VOC | 27-015A (12/07/2018)
Mack Truck—Macungie (Lehigh) | Yes | NOX and VOC | 39-00004 (04/03/2020)

The case-by-case RACT determinations submitted by PADEP consist of an evaluation of all reasonably available controls at the time of evaluation for each affected emissions unit, resulting in a PADEP determination of what specific emissions limit or control measures satisfy RACT for that particular unit. The adoption of new, additional, or revised emissions limits or control measures to existing SIP-approved RACT I requirements were specified as requirements in new or revised federally enforceable permits (hereafter RACT II permits) issued by PADEP to the source. Similarly, PADEP's determinations of alternative NOX emissions limits are included in RACT II permits. These RACT II permits have been submitted as part of the Pennsylvania RACT SIP revisions for EPA's approval in the Pennsylvania SIP under 40 CFR 52.2020(d)(1). The RACT II permits submitted by PADEP are listed in the last column of Table 1 of this preamble, along with the permit effective date, and are part of the docket for this rule, which is available online at https://www.regulations.gov, Docket No. EPA-R03-OAR-2021-0217.⁴ EPA is incorporating by reference in the Pennsylvania SIP, via the RACT II permits, source-specific RACT emissions limits and control measures and alternative NOX emissions limits under the 1997 and 2008 8-hour ozone NAAQS for certain major sources of NOX and VOC emissions.

⁴ The RACT II permits included in the docket for this rule are redacted versions of the facilities' federally enforceable permits. They reflect the specific RACT requirements being approved into the Pennsylvania SIP via this final action.

B. EPA's Final Action

PADEP's SIP revisions incorporate its determinations of source-specific RACT II controls for individual emission units at major sources of NOX and/or VOC in Pennsylvania, where those units are not covered by or cannot meet Pennsylvania's presumptive RACT regulation or where included in a NOX emissions averaging plan. After thorough review and evaluation of the information provided by PADEP in its SIP revision submittals for sources at 14 major NOX and/or VOC emitting facilities in Pennsylvania, EPA found that: (1) PADEP's case-by-case RACT determinations and conclusions establish limits and/or controls on individual sources that are reasonable and appropriately considered technically and economically feasible controls; (2) PADEP's determinations on alternative NOX emissions limits demonstrate that emissions under the averaging plan are equivalent to emissions if the individual sources were operating in accordance with the applicable presumptive limit; and (3) PADEP's determinations are consistent with the CAA, EPA regulations, and applicable EPA guidance.

PADEP, in its RACT II determinations, considered the prior source-specific RACT I requirements and, where more stringent, retained those RACT I requirements as part of its new RACT determinations. In the NPRM, EPA proposed to find that all the proposed revisions to previously SIP-approved RACT I requirements would result in equivalent or additional reductions of NOX and/or VOC emissions. The revisions should not interfere with any applicable requirements concerning attainment of the NAAQS, reasonable further progress, or other applicable requirements under section 110(l) of the CAA.

Other specific requirements of the 1997 and 2008 8-hour ozone NAAQS case-by-case RACT determinations and alternative NOX emissions limits and the rationale for EPA's action are explained more thoroughly in the NPRM, and its associated technical support document (TSD), and will not be restated here.

III. Public Comments and EPA Responses

EPA received three comments from three commenters on the August 2, 2021 NPRM. 86 FR 41421. A summary of the comments and EPA's response are discussed in this section. A copy of the comments can be found in the docket for this rule action.

Comment 1: The commenter claims that for the Mack Truck—Macungie facility to meet RACT II requirements, an economic and technical feasibility analysis must be conducted. The commenter identifies that such an analysis was not performed for sources at this facility and also appears to claim that compliance with CTGs is insufficient to meet RACT requirements. Therefore, the commenter states that EPA must require a technical and economic feasibility analysis for the sources at Mack Truck before RACT can be approved for this facility.

Response 1: Pennsylvania's RACT II regulations allow a source to meet RACT II requirements by complying with presumptive RACT requirements under 25 Pa. Code 129.97, with CTGs under 25 Pa. Code 129.96(a) and (b), NOX averaging under 25 Pa. Code 129.98, or with a case-by-case limit in accordance with 25 Pa. Code 129.99. A technical and economic feasibility analysis is only required as part of the case-by-case limit development process required in section 129.99.

All of the sources at this facility are required to meet either a CTG under 25 Pa. Code 129.52d or presumptive requirements under 25 Pa. Code 129.97(c). Since all the sources at Mack Truck are meeting either presumptive or CTG requirements, a case-by-case analysis is not required.

The commenter's specific concern appears to arise from EPA's TSD where EPA, in discussing the regulatory status of the “G” Line (Source IDs 108 and 109) and the Final Spray Booth and Oven (Source IDs 114 and 116), identified that the typical technical and economic feasibility analysis was not conducted for these sources. However, EPA, in that document, also acknowledged that such an analysis was not required for these sources because they are now regulated under a CTG at section 129.52d. Nevertheless, since these sources were subject to previously SIP-approved RACT I requirements, PADEP had to ensure, pursuant to CAA section 110(l), that the new CTG requirements were at least as stringent as the prior RACT I requirements. Through an additional, source-specific analysis, PADEP determined that the newly established throughput limits for Source IDs 108 and 109, combined with compliance with the CTG's solvent content restrictions at 25 Pa. Code 129.52d, ensured that the RACT II limits were more stringent than the RACT I requirements. In order to ensure that stringency, PADEP added the newly established throughput limits to its RACT II requirements for these sources. For Source IDs 114 and 116, PADEP's 110(l) analysis led it to retain the existing RACT I requirements. Accordingly, PADEP was not performing a case-by-case determination for these sources under section 129.99, and a technical and economic feasibility analysis was not required. For these reasons, PADEP's SIP revision for the sources at Mack Truck meets RACT requirements and is approvable.

Comment 2: In the first part of the comment, the commenter states that the TSD for Tennessee Gas Pipeline Co., LLC, Marienville STA 307 is confusing and appears to be missing information for Source ID 135. More specifically, the commenter points to a listing of RACT requirements within that section that begins with Item #7 rather than Item #1. The second portion of the comment includes a claim that PADEP's conclusion was based only on a technical feasibility analysis and should have included an economic feasibility analysis as well. For these reasons, the commenter asserts that EPA must either reject or repropose the SIP revision for Source 135.

Response 2: With respect to the first part of the comment, the commenter correctly identifies that the numbering of the list of RACT requirements for Source ID 135 (Engine A5C 3500 HP Pipeline Compressor Engine (Worthington ML-12)) contained in PADEP's Conclusions section of the TSD is misleading. There is an error in the numbering. It begins with Item #7 rather than Item #1. However, the information in the listing is accurate and complete. It summarizes all of the RACT requirements being imposed on Source ID 135. These RACT requirements are also included in PADEP's Technical Review Memo of RACT II Proposal and Plan Approval and the Redacted Plan Approval, which are both part of the docket for this rule.⁵ The commenter also claims that this listing is confusing because it is set forth without explanation or description. However, the commenter is incorrect on this point. PADEP's Conclusions section of the TSD specifically begins: “In accordance with 25 Pa. Code 129.99, PADEP has determined RACT for the following source as follows, based on the technical feasibility analysis performed:” It then contains a narrative description of the RACT I and II requirements for Source 135 followed by the listing in question. While the misnumbering in the listing of RACT II requirements may have been somewhat confusing, EPA considers it an inadvertent error. As the information in the TSD and the docket was complete and accurate, EPA believes the information about PADEP's RACT II determination for Source ID 135 was available for review by the public and that there is no need to repropose the SIP revision for Tennessee Gas Pipeline Co., LLC, Marienville STA 307 (Marienville STA 307).

⁵ See Final CBC RACT Submittal Letter 1, which is part of the docket of this rule.

With respect to the second part of the comment, EPA continues to find that PADEP's CbC RACT determination for Source ID 135 is reasonable given the results of its feasibility analysis. Through the CbC analysis, PADEP identified two potential control technologies for use at this source. Selective catalytic reduction (SCR) was determined to be technically infeasible. However, the second technology, low emission combustion (LEC), was found to be technically feasible. The commenter is correct in identifying that PADEP did not conduct an economic feasibility analysis of this technology. Normally, an economic feasibility analysis would be required at this stage, but it was not required under the circumstances for this source. Because the company decided to install the LEC technology and PADEP imposed it as a RACT requirement, there was no need to conduct a separate analysis on economic feasibility. For these reasons, PADEP's SIP revision for Source 135 (at Marienville STA 307) meets RACT requirements and is approvable.

Comment 3: The commenter states that EPA should not approve any of these permits because commenter claims that the RACT CbC determinations are not achieving any real reductions from these sources. The commenter estimates that only two of the 14 sources in this rule required either emission reductions and/or the installation of new control technologies. The commenter requests that EPA take another look at the sources to determine whether existing controls could be tightened or new controls be installed.

Response 3: As described in the proposed rulemaking, Pennsylvania was required through implementation of the 1997 and 2008 8-hour ozone NAAQS to determine RACT II requirements for major NOX and VOC emitting sources within the Commonwealth. PADEP had previously established CbC RACT requirements under the 1979 1-hour ozone NAAQS (RACT).⁶ PADEP finalized its overall RACT II program, and it was conditionally approved by EPA.⁷ As required by Pennsylvania's RACT II regulations, PADEP conducted, for sources seeking a CbC determination, an analysis examining what air pollution controls were available for those individual sources to determine the lowest emissions limit that a particular source is capable of meeting by the application of control technology that is reasonably available considering technologically and economic feasibility.⁸

⁶ 40 CFR 52.2020(d)(1).

⁷ 84 FR 20274 (May 9, 2019).

⁸ See December 9, 1976 memorandum from Roger Strelow, Assistant Administrator for Air and Waste Management, to Regional Administrators, “Guidance for Determining Acceptability of SIP Regulations in Non-Attainment Areas,” and 44 FR 53762 (September 17, 1979).

As described in its technical review memoranda and related documents, which are part of the docket for this rule, PADEP evaluated the technical and/or economic feasibility of various control equipment for the individual sources at the facilities included in this rule and used these evaluations to determine the RACT II requirements. These determinations may or may not have resulted in additional emission reductions and/or installation of new control technologies depending on the outcome of the analyses, which were based on the specific nature of each individual source. For facilities subject to RACT I, PADEP also considered the prior RACT I requirements as appropriate to ensure that the RACT II requirements were as stringent as any previously established standards. In circumstances where the RACT I requirements were more stringent, they were retained and remain effective.

EPA recognizes that PADEP's CbC determinations at times resulted in only a continuation of RACT I requirements, but these determinations were made after a thorough review of the available control technology as demonstrated by the detailed record, which is part of the docket for this rule, submitted by PADEP to support its SIP revisions. The commenter's estimate of how often PADEP reduced an emission limit or required the installation of new technology is also misleading. Even when PADEP's CbC determination did not result in a more stringent emission limit or a new technology, PADEP sometimes imposed other measures that should lead to reduced emissions (e.g., more specific operating requirements at the melt shops at IPSCO Koppel Tubular Corporation and the revised VOC control system for the spray booths at the York Group, Inc).⁹ EPA continues to conclude that PADEP's CbC determinations reasonably evaluated the technical and economic feasibility of potential controls for the sources included in this rule as required by the RACT II requirements and are approvable.

⁹ See Chapters 7 and 9 of EPA's Technical Support Document, dated June 2, 2021, which is part of the docket for this rule.

IV. Final Action

EPA is approving case-by-case RACT determinations and/or alternative NOX emissions limits for 14 sources in Pennsylvania, as required to meet obligations pursuant to the 1997 and 2008 8-hour ozone NAAQS, as revisions to the Pennsylvania SIP.

V. Incorporation by Reference

In this document, EPA is finalizing regulatory text that includes incorporation by reference. In accordance with requirements of 1 CFR 51.5, EPA is finalizing the incorporation by reference of source-specific RACT determinations and alternative NOX emissions limits under the 1997 and 2008 8-hour ozone NAAQS for certain major sources of VOC and NOX in Pennsylvania. EPA has made, and will continue to make, these materials generally available through https://www.regulations.gov and at the EPA Region III Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rule of EPA's approval, and will be incorporated by reference in the next update to the SIP compilation.¹⁰

¹⁰ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

C. Petitions for Judicial Review

Under section 307(b)(1) of the CAA, petitions for judicial review of this action must be filed in the United States Court of Appeals for the appropriate circuit by March 28, 2022. Filing a petition for reconsideration by the Administrator of this final rule does not affect the finality of this action for the purposes of judicial review nor does it extend the time within which a petition for judicial review may be filed, and shall not postpone the effectiveness of such rule or action.

This action approving Pennsylvania's NOX and VOC RACT requirements for 14 facilities for the 1997 and 2008 8-hour ozone NAAQS may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: December 8, 2021.
Diana Esher,
Acting Regional Administrator, Region III.

For the reasons set out in the preamble, 40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (d)(1) is amended by:

a. Revising the entries “Consol Pennsylvania Coal Company—Bailey Prep Plant”; “Latrobe Steel Company—Latrobe”; “(Allegheny Ludlum Corporation) Jessop Steel Company—Washington Plant”; “Koppel Steel Corporation—Koppel Plant”; “Three Rivers Aluminum Company (TRACO)”; “GenCorp (Plastic Films Division)—Jeannette Plant”; “Koppel Steel Corporation—Ambridge Plant”; “Allegheny Ludlum Steel Corporation”; “Mack Trucks, Inc”; “Tennessee Gas Pipeline Company—Howe Township”; “York Group, Inc”; and “Dart Container Corporation”.

b. Adding the following entries at the end of the table: “CONSOL PA Coal CO LLC Bailey Prep Plt (formerly referenced as Consol Pennsylvania Coal Company—Bailey Prep Plant)”; “Latrobe Specialty Metals—A Carpenter Co (formerly referenced as Latrobe Steel Company—Latrobe)”; “Jessop Steel LLC—Washington Plant [formerly referenced as (Allegheny Ludlum Corporation) Jessop Steel Company—Washington Plant]”; “IPSCO Koppel Tubulars LLC—Koppel Plt (formerly referenced as Koppel Steel Corporation—Koppel Plant)”; “Kawneer Commercial Windows LLC—Cranberry Twp [formerly referenced as Three Rivers Aluminum Company (TRACO)]”; “Omnova Solutions Inc—Jeannette Plant [formerly referenced as GenCorp (Plastic Films Division)—Jeannette Plant]”; “IPSCO Koppel Tubulars LLC—Ambridge (formerly referenced as Koppel Steel Corporation—Ambridge Plant)”; “ATI Flat Rolled Products Holdings LLC—Vandergrift (formerly referenced as Allegheny Ludlum Steel Corporation)”; “Mack Trucks, Inc.—Macungie (formerly referenced as Mack Trucks Inc.)”; “Tennessee Gas Pipeline Co., LLC, Marienville STA 307 (formerly referenced as Tennessee Gas Pipeline Company—Howe Township)”; “York Group Inc.—Black Bridge Rd”; “Dart Container Corporation—Leola”; “Dart Container Corporation—East Lampeter”; and “MarkWest Liberty Bluestone Plant”.

The revisions and additions read as follows:

§ 52.2020 Identification of plan.

* * * * *

(d) * * *

(1) * * *

Name of source | Permit No. | County | State effective date | EPA approval date | Additional explanations/§§ 52.2063 and 52.2064 citations ¹
* * * * * * *
Consol Pennsylvania Coal Company—Bailey Prep Plant | OP-30-000-072 | Greene | 3/23/1999 | 08/6/01, 66 FR 40891 | See also 52.2064(h)(1).
* * * * * * *
Latrobe Steel Company—Latrobe | OP-65-000-016 | Westmoreland | 12/22/1995 | 10/16/01, 66 FR 52517 | See also 52.2064(h)(2).
* * * * * * *
(Allegheny Ludlum Corporation) Jessop Steel Company—Washington Plant | (OP)63-000-027 | Washington | 3/26/1999 | 10/16/01, 66 FR 52522 | See also 52.2064(h)(3).
Koppel Steel Corporation—Koppel Plant | (OP)04-000-059 | Beaver | 3/23/2001 | 10/16/01, 66 FR 52522 | See also 52.2064(h)(4).
* * * * * * *
Three Rivers Aluminum Company (TRACO) | OP-10-267 | Butler | 3/1/2001 | 10/17/01, 66 FR 52695 | See also 52.2064(h)(5).
* * * * * * *
GenCorp (Plastic Films Division)—Jeannette Plant | (OP)65-000-207 | Westmoreland | 1/4/1996 | 10/15/01, 66 FR 52322 | See also 52.2064(h)(6).
* * * * * * *
Koppel Steel Corporation—Ambridge Plant | OP-04-000-227 | Beaver | 10/12/2000 | 10/15/01, 66 FR 52317 | See also 52.2064(h)(7).
* * * * * * *
Allegheny Ludlum Steel Corporation | (OP-)65-000-137 | Westmoreland | 5/17/1999 | 10/19/01, 66 FR 53090 | See also 52.2064(h)(8).
* * * * * * *
Mack Trucks, Inc | OP-39-0004 | Northampton | 5/31/1995 | 10/17/03, 68 FR 59741 | See also 52.2064(h)(9).
* * * * * * *
Tennessee Gas Pipeline Company—Howe Township | OP-27-015 | Forest | 7/27/2000 | 3/30/05, 70 FR 16118 | See also 52.2064(h)(10).
* * * * * * *
York Group, Inc | OP-67-2014 | York | 7/3/1995 | 3/31/05, 70 FR 16416 | See also 52.2064(h)(11).
* * * * * * *
Dart Container Corporation | OP-36-2015 | Lancaster | 8/31/1995 | 6/8/07, 72 FR 31749 | See also 52.2064(h)(12).
* * * * * * *
CONSOL PA Coal CO LLC Bailey Prep Plt (formerly referenced as Consol Pennsylvania Coal Company—Bailey Prep Plant) | 30-00072L | Greene | 3/12/2020 | 1/25/2022, [insert Federal Register citation] | 52.2064(h)(1).
Latrobe Specialty Metals—A Carpenter Co (formerly referenced as Latrobe Steel Company—Latrobe) | 65-00016 | Westmoreland | 02/26/2020 | 1/25/2022, [insert Federal Register citation] | 52.2064(h)(2).
Jessop Steel LLC—Washington Plant [formerly referenced as (Allegheny Ludlum Corporation) Jessop Steel Company—Washington Plant] | 63-00027 | Westmoreland | 03/11/2020 | 1/25/2022, [insert Federal Register citation] | 52.2064(h)(3).
IPSCO Koppel Tubulars LLC—Koppel Plt (formerly referenced as Koppel Steel Corporation—Koppel Plant) | 04-00059 | Beaver | 3/16/2020 | 1/25/2022, [insert Federal Register citation] | 52.2064(h)(4).
Kawneer Commercial Windows LLC—Cranberry Twp [formerly referenced as Three Rivers Aluminum Company (TRACO)] | 10-00267 | Butler | 3/04/2020 | 1/25/2022, [insert Federal Register citation] | 52.2064(h)(5).
Omnova Solutions Inc—Jeannette Plant [formerly referenced as GenCorp (Plastic Films Division)—Jeannette Plant] | 65-00207 | Westmoreland | 2/06/2020 | 1/25/2022, [insert Federal Register citation] | 52.2064(h)(6).
IPSCO Koppel Tubulars LLC—Ambridge (formerly referenced as Koppel Steel Corporation—Ambridge Plant) | 04-00227 | Beaver | 3/26/2020 | 1/25/2022, [insert Federal Register citation] | 52.2064(h)(7).
ATI Flat Rolled Products Holdings LLC—Vandergrift (formerly referenced as Allegheny Ludlum Steel Corporation) | 65-00137 | Westmoreland | 3/11/2020 | 1/25/2022, [insert Federal Register citation] | 52.2064(h)(8).
Mack Trucks, Inc.—Macungie (formerly referenced as Mack Trucks Inc.) | 39-00004 | Lehigh | 4/03/2020 | 1/25/2022, [insert Federal Register citation] | 52.2064(h)(9).
Tennessee Gas Pipeline Co., LLC, Marienville STA 307 (formerly referenced as Tennessee Gas Pipeline Company—Howe Township) | 27-015A | Forest | 12/07/2018 | 1/25/2022, [insert Federal Register citation] | 52.2064(h)(10).
York Group Inc.—Black Bridge Rd | 67-05014C | York | 3/04/2020 | 1/25/2022, [insert Federal Register citation] | 52.2064(h)(11).
Dart Container Corporation—Leola | 36-05015 | Lancaster | 3/30/2020 | 1/25/2022, [insert Federal Register citation] | 52.2064(h)(12).
Dart Container Corporation—East Lampeter | 36-05117 | Lancaster | 10/15/2020 | 1/25/2022, [insert Federal Register citation] | 52.2064(h)(13).
MarkWest Liberty Bluestone Plant | 10-00368 | Butler | 2/20/2020 | 1/25/2022, [insert Federal Register citation] | 52.2064(h)(14).
¹ The cross-references that are not § 52.2064 are to material that pre-date the notebook format. For more information, see § 52.2063.

* * * * *

3. Amend § 52.2064 by adding paragraph (h) to read as follows:

§ 52.2064 EPA-approved Source-Specific Reasonably Available Control Technology (RACT) for Volatile Organic Compounds (VOC) and Oxides of Nitrogen (NOX).

* * * * *

(h) Approval of source-specific RACT requirements for 1997 and 2008 8-hour ozone national ambient air quality standards for the facilities listed in this paragraph (h) are incorporated as specified. (Rulemaking Docket No. EPA-R03-OAR-2021-0217.)

(1) CONSOL PA Coal CO LLC Bailey Prep Plt—Incorporating by reference Permit No. PA-30-00072L, issued March 12, 2020, as redacted by Pennsylvania, which supersedes the prior RACT permit OP-30-000-072, issued March 23, 1999. See also § 52.2063(c)(149)(i)(B)(8) for prior RACT approval.

(2) Latrobe Specialty Metals—A Carpenter Co—Incorporating by reference Permit No. 65-00016, issued February 26, 2020, as redacted by Pennsylvania, which supersedes the prior RACT Permit No. 65-000-016, issued December 22, 1995. See also § 52.2063(c)(158)(i)(B) for prior RACT approval.

(3) Jessop Steel LLC—Washington Plant—Incorporating by reference Permit 63-00027 issued on March 11, 2020, as redacted by Pennsylvania. All permit conditions in the prior RACT Permit No. 63-00027, effective October 31, 2001, remain as RACT requirements except for conditions 5 and 6, which are being superseded. See also § 52.2063(c)(163)(i)(B)(3) for prior RACT approval.

(4) IPSCO Koppel Tubulars LLC—Koppel Plt—Incorporating by reference Permit No. 04-00059, issued March 16, 2020, as redacted by Pennsylvania, which supersedes the prior RACT permit no. 04-000-059, issued March 23, 2001. See also § 52.2063(c)(163)(i)(D) for prior RACT approval.

(5) Kawneer Commercial Windows LLC—Cranberry Twp—Incorporating by reference Permit #10-00267 issued on September 14, 2015, as amended on March 4, 2020. The RACT I requirements contained in TRACO Operating Permit No. 10-267, issued on March 1, 2001, remain in effect. See also § 52.2063(c)(170)(i)(B)(7) for prior RACT approval.

(6) Omnova Solutions Inc—Jeannette Plant—Incorporating by reference Permit No. OP-65-000-207, issued February 6, 2020, as redacted by Pennsylvania. All permit requirements of the prior RACT Permit No. OP-65-000-207, effective January 4, 1996, remain as RACT requirements except for conditions 5, 6, 7 (mislabeled as condition 5) 8 (mislabeled as condition 6), and 9 (mislabeled as condition 7), which are being superseded. See also § 52.2063(c)(171)(i)(B) for prior RACT approval.

(7) IPSCO Koppel Tubulars LLC—Ambridge Incorporating by reference Permit No. 04-00227, issued March 26, 2020, as redacted by Pennsylvania. All permit conditions in the prior RACT Permit No. PA 04-000-227 issued on October 12, 2000, remain as RACT requirements. See also § 52.2063(c)(180)(i)(B) for prior RACT approval.

(8) ATI Flat Rolled Products Holdings LLC—Vandergrift—Incorporating by reference Permit No. 65-00137, issued March 11, 2020, as redacted by Pennsylvania. All permit conditions in the prior RACT Permit No. PA 65-000-137 issued on May 17, 1999, remain as RACT requirements. See also § 52.2063(c)(186)(i)(B)(1) for prior RACT approval.

(9) Mack Truck—Macungie Title V Operating permit no. 0039-00004, issued December 30, 2015, as amended April 3, 2020, which supersedes Operating Permit No. 39-0004, issued on May 31, 1995, except for Conditions (4), (7) (C)2 through 9, (7) (E)4 through 9, and (8)(a). See also § 52.2063(c)(207)(i)(B)(1) for prior RACT approval.

(10) Tennessee Gas Pipeline Co., LLC, Marienville STA 307—Incorporating by reference Permit No. 27-015A, issued December 7, 2018, as redacted by Pennsylvania. All permit conditions in the prior RACT Permit No. PA 27-015 issued on July 27, 2000, are superseded by RACT II requirements except for Source ID 136. For Source ID 136, the presumptive RACT II limit is less stringent than the RACT I limit; therefore, the RACT I limit has been retained for Source ID 136. See also § 52.2020(d)(1) for prior RACT approval.

(11) York Group Inc.—Black Bridge Rd.—Incorporating by reference Permit No. 67-05014C, issued March 4, 2020, as redacted by Pennsylvania, which supersedes the prior RACT permit no. 67-2014, issued July 5, 1995, See also § 52.2020(d)(1) for prior RACT approval.

(12) Dart Container Corporation—Leola—Incorporating by reference Permit No. 36-05015, issued March 30, 2020,as redacted by Pennsylvania. Requirements of the prior RACT Permit No. OP-36-2015, effective August 31, 1995, remain as RACT requirements except for permit condition 7 for the flexographic presses, which are no longer in operation. See also § 52.2020(d)(1) for prior RACT approval.

(13) Dart Container Corporation—East Lampeter—Incorporating by reference Permit No. 36-05117, effective March 3, 2020, as redacted by Pennsylvania.

(14) MarkWest Liberty Bluestone- Incorporating by reference Permit No. 10-00368, issued February 20, 2020, as redacted by Pennsylvania.

[FR Doc. 2021-27232 Filed 1-24-22; 8:45 am]

BILLING CODE 6560-50-P